DEPARTMENT OF THE INTERIOR

National Park Service

[NPS-WASO-NAGPRA-NPS0038964; PPWOCRADN0-PCU00RP14.R50000]

Notice of Inventory Completion: The San Diego Archaeological Center, San Diego, CA

AGENCY: National Park Service, Interior.

ACTION: Notice.

SUMMARY: In accordance with the Native American Graves Protection and Repatriation Act (NAGPRA), the San Diego Archaeological Center has completed an inventory of human remains and associated funerary objects and has determined that there is a cultural affiliation between the human remains and associated funerary objects and Indian Tribes or Native Hawaiian organizations in this notice.

DATES: Repatriation of the human remains and associated funerary objects in this notice may occur on or after November 29, 2024.

ADDRESSES: Stephanie Sandoval, Executive Director, The San Diego Archaeological Center, 16666 San Pasqual Valley Road, Escondido, CA 92027, telephone (760) 291-0370, email sjsandoval@sandiegoarchaeology.org.

SUPPLEMENTARY INFORMATION: This notice is published as part of the National Park Service's administrative responsibilities under NAGPRA. The determinations in this notice are the sole responsibility of the San Diego Archaeological Center, and additional information on the determinations in this notice, including the results of consultation, can be found in the inventory or related records. The National Park Service is not responsible for the determinations in this notice.

Abstract of Information Available

Based on the information available, human remains representing at least one individual has been reasonably identified. The associated funerary objects are currently zero/undetermined, awaiting consultation results. This site (CA-SDI-16502) is in the north part of San Diego County near the City of Vista. The site boundaries are north of W Vista Way, near Buena Vista Creek. Archaeological testing was performed at CA-SDI-16,502 on October 26, 29, and November 1, 2004. The purpose of archaeological testing was to determine the horizontal and vertical extent of any intact cultural deposits within the proposed project limits of the American Medical Center complex. The collection was delivered to the San Diego Archaeological Center on May 23, 2005. The human remains were identified in the collection upon curation and sent back to the CRM firm for confirmation by the medical examiner. The medical examiner assessed the remains and determined them to be possibly human. The Native American Heritage Commission named the Pauma Band of Luiseno Indians to be Most Likely Descendant, on behalf of the San Luis Rey (non-Federally recognized) Band. No known potentially hazardous substances have been used to treat any of the human remains nor associated funerary objects.

Cultural Affiliation

Based on the information available, cultural affiliation is reasonably identified by the geographical location or acquisition history of the human remains and associated funerary objects described in this notice.

Determinations

The San Diego Archaeological Center has determined that:

• The human remains described in this notice represent the physical remains of at least one individual of Native American ancestry.

• The associated funerary objects related to the Human Remains described in this notice are unknown, awaiting consultation results.

• There is a reasonable connection between the human remains and associated funerary objects described in this notice and the Pauma Band of Luiseno Mission Indians of the Pauma & Yuima Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 29, 2024. If competing requests for repatriation are received, the San Diego Archaeological Center must determine the most appropriate requestor prior to repatriation. Requests for joint repatriation of the human remains and associated funerary objects are considered a single request and not competing requests. The San Diego Archaeological Center is responsible for sending a copy of this notice to the Indian Tribes and Native Hawaiian organizations identified in this notice.

Authority: Native American Graves Protection and Repatriation Act, 25 U.S.C. 3003, and the implementing regulations, 43 CFR 10.10.

Dated: October 25, 2024
Melanie O'Brien,
Manager, National NAGPRA Program.

[FR Doc. 2024-25193 Filed 10-29-24; 8:45 am]

BILLING CODE 4312-52-P